DEPARTMENT OF TRANSPORTATION

Federal Aviation Administration

Supplemental Notice for the National Parks Overflights Advisory Group Aviation Rulemaking Committee Meeting

ACTION: Revised notice of meeting.

SUMMARY: The Federal Aviation Administration (FAA) and the National Park Service (NPS), in accordance with the National Parks Air Tour Management Act of 2000, announce the next meeting of the National Parks Overflights Advisory Group (NPOAG) Aviation Rulemaking Committee (ARC). This notification provides the dates, location, and agenda for the meeting. This notification revises Federal Register notice published on August 19, 2008 (Vol. 73, No. 161, Page 48427-48428) to indicate a change in the time of meetings and that interested persons may attend the meeting.

DATES AND LOCATION: The NPOAG ARC will meet on September 3-4, 2008. The meeting will take place in a commercial office building at 826 East Front Street, Port Angeles, WA, leased by the NPS. The office phone number at this facility is (360)-565-1320. The meetings will be held from 8 a.m. to 5 p.m. on both days. Although this is not a public meeting, interested persons may attend the meeting.

FOR FURTHER INFORMATION CONTACT: Barry Brayer, AWP-1SP, Special Programs Staff, Federal Aviation Administration, Western-Pacific Region Headquarters, P.O. Box 92007, Los Angeles, CA 90009-2007, telephone: (310) 725-3800, e-mail: Barry.Brayer@faa.gov, or Karen Trevino, National Park Service, Natural Sounds Program, 1201 Oakridge Dr., Suite 100, Fort Collins, CO, 80525, telephone: (970) 225-3563, e-mail: Karen_Trevino@nps.gov.

SUPPLEMENTARY INFORMATION:

Background

The National Parks Air Tour Management Act of 2000 (NPATMA), enacted on April 5, 2000, as Public Law 106-181, required the establishment of the NPOAG within one year after its enactment. The Act requires that the NPOAG be a balanced group of representatives of general aviation, commercial air tour operations, environmental concerns, and Native American tribes. The Administrator of the FAA and the Director of NPS (or their designees) serve as ex officio members of the group. Representatives of the Administrator and Director serve alternating 1-year terms as chairman of the advisory group.

The duties of the NPOAG include providing advice, information, and recommendations to the FAA Administrator and the NPS Director on: Implementation of Public Law 106-181; quiet aircraft technology; other measures that might accommodate interests of visitors to national parks; and at the request of the Administrator and the Director, on safety, environmental, and other issues related to commercial air tour operations over national parks or tribal lands.

Agenda for the September 3-4, 2008 NPOAG Meeting

The agenda for the meeting will include, but is not limited to, the following: Development of a Strategic Plan, review and approval of the meeting minutes from the September 25-26, 2007 NPOAG meeting in Fort Collins, CO; update on ongoing Air Tour Management Program projects; and NPOAG subgroup assignments.

Attendance at the Meetings

Although this is not a public meeting, interested persons may attend. Because seating is limited, if you plan to attend please contact one of the persons listed under FOR FURTHER INFORMATION CONTACT so that meeting space may be made to accommodate all attendees.

Record of the Meetings

If you cannot attend the NPOAG meeting, a summary record of the meeting will be made available under the program information section of the FAA ATMP Web site at http://www.atmp.faa.gov or through the Special Programs Staff, Western-Pacific Region, Federal Aviation Administration, P. O. Box 92007, Los Angeles, CA 90009-2007, telephone (310) 725-3800.

Issued in Hawthorne, CA, on August 25, 2008.
Barry S. Brayer,
Manager, Special Programs Office, Western-Pacific Region.

[FR Doc. E8-20148 Filed 8-28-08; 8:45 am]

BILLING CODE 4910-13-P